DEPARTMENT OF COMMERCE

International Trade Administration

[A-552-801]

Certain Frozen Fish Fillets From the Socialist Republic of Vietnam: Preliminary Results of the Antidumping Duty Administrative Review and Preliminary Determination of No Shipments; 2017-2018

AGENCY: Enforcement and Compliance, International Trade Administration, Department of Commerce.

SUMMARY: The Department of Commerce (Commerce) preliminarily determines that certain frozen fish fillets (fish fillets) from the Socialist Republic of Vietnam (Vietnam) are not being, or are not likely to be, sold in the United States at less than normal value (NV) during the period of review (POR), August 1, 2017 through July 31, 2018.

DATES: Applicable October 22, 2019.

FOR FURTHER INFORMATION CONTACT: Javier Barrientos, AD/CVD Operations, Office V, Enforcement and Compliance, International Trade Administration, U.S. Department of Commerce, 1401 Constitution Avenue NW, Washington DC 20230; telephone: (202) 482-2243.

SUPPLEMENTARY INFORMATION:

Background

On October 4, 2018, Commerce published in the Federal Register the notice of initiation of an administrative review of the antidumping duty (AD) order on fish fillets from Vietnam.¹ Commerce initiated a review with respect to 76 companies,² and selected three of these companies: Bien Dong Seafood Co., Ltd. (Bien Dong); Hung Vuong Group (HVG); ³ and Vinh Hoan Corporation (Vinh Hoan), as mandatory respondents.⁴ Petitioners withdrew their request for review of Bien Dong and Bien Dong Hau Giang Seafood Joint Stock Company (Bien Dong HG) on December 20, 2018,⁵ and respondent Bien Dong also withdrew its request for review for itself and for Bien Dong HG on that date.⁶ On December 27, 2018, Vinh Hoan withdrew its review request.⁷ On December 31, 2018, the petitioners withdrew their request with regard to Vinh Hoan and several other companies.⁸ On February 4, 2019, NTSF Seafoods Joint Stock Company (NTSF) was selected as a replacement mandatory respondent.⁹ On January 2, 2019, and February 8, 2019, the petitioners withdrew their request for additional companies.¹⁰ On March 13, 2019, Commerce rescinded the review on 52 companies including Bien Dong, Vinh Hoan, and HVG.¹¹

¹ See Initiation of Antidumping and Countervailing Duty Administrative Reviews, 83 FR 50077 (October 4, 2018) (Initiation Notice); see also Appendix II for the complete list of all companies upon which Commerce initiated an administrative review.

² Id.

³ The Hung Vuong Group (HVG), includes: An Giang Fisheries Import & Export Joint Stock Company, Asia Pangasius Company Limited, Europe Joint Stock Company, Hung Vuong Ben Tre Seafood Processing Co., Ltd., Hung Vuong Joint Stock Company, Hung Vuong Mascato Company Limited, Hung Vuong—Vinh Long Co., Ltd., and Hung Vuong—Sa Dec Co., Ltd. See Certain Frozen Fish Fillets From the Socialist Republic of Vietnam: Preliminary Results of the Antidumping Duty Administrative Review, Preliminary Determination of No Shipments and Partial Rescission of the Antidumping Duty Administrative Review; 2016-2017, 83 FR 46479 (September 13, 2018), and accompanying Preliminary Decision Memorandum at 4 unchanged in Certain Frozen Fish Fillets from the Socialist Republic of Vietnam: Final Results, and Final Results of No Shipments of the Antidumping Duty Administrative Review; 2016-2017, 84 FR 18007 (April 29, 2019).

⁴ See Memorandum, “Selection of Respondents for Individual Review,” dated October 31, 2018.

⁵ See Petitioners' Letter, “Partial Withdrawal of Request for Administrative Review of Antidumping Duty Order,” dated December 20, 2018.

⁶ See Bien Dong's Letter, “Withdrawal of Request for Administrative Review,” dated December 20, 2018.

⁷ See Vinh Hoan's Letter, “Withdrawal of Request for Administrative Review,” dated December 27, 2018.

⁸ See Petitioners' Letter, “Partial Withdrawal of Request for Administrative Review of Antidumping Duty Order,” dated December 31, 2018.

⁹ See Memorandum, “Selection of Replacement Respondent for Individual Review,” dated February 4, 2019.

¹⁰ See Petitioners' Letters, “Partial Withdrawal of Request for Administrative Review of Antidumping Duty Order,” dated January 2, 2019; and “Partial Withdrawal of Request for Administrative Review of Antidumping Duty Order,” dated February 8, 2019.

¹¹ See Certain Frozen Fish Fillets From the Socialist Republic of Vietnam; 2017- 2018; Rescission of the Antidumping Duty Administrative Review in Part, 84 FR 9087 (March 13, 2019).

Scope of the Order

The product covered by this review is certain frozen fish fillets from Vietnam. For a full description of the scope, see the Preliminary Decision Memorandum dated concurrently with and hereby adopted by this notice.¹²

¹² See Memorandum, “Decision Memorandum for the Preliminary Results and Preliminary Determination of No Shipments for the 2017-2018 Antidumping Duty Administrative Review,” dated concurrently with this notice (Preliminary Decision Memorandum).

Preliminary Determination of No Shipments

Based on the no-shipments letters filed by six companies,¹³ Commerce preliminarily determines that these companies had no shipments during the POR. For additional information regarding this determination, including a list of these companies, see the Preliminary Decision Memorandum. Consistent with our assessment practice in non-market economy (NME) administrative reviews, Commerce is not rescinding this review for these companies, but intends to complete the review and issue appropriate instructions to CBP based on the final results of the review.¹⁴

¹³ These include: Golden Quality Seafood Corporation; Nam Viert Corporation; Hoa Phat Seafood Import-Export and Processing JSC; To Chau Joint Stock Company; Fatifish Company Limited; and, Godaco Seafood Joint Stock Company.

¹⁴ See Non-Market Economy Antidumping Proceedings: Assessment of Antidumping Duties, 76 FR 65694, 65694-95 (October 24, 2011) and the “Assessment Rates” section, infra.

Separate Rates

Commerce preliminarily determines that information placed on the record by the mandatory respondent NTSF, as well as by the separate rate respondent CASEAMEX,¹⁵ demonstrates that these companies are entitled to separate rate status. Sixteen companies for which a review was requested have not established eligibility for a separate rate, and are considered to be part of the Vietnam-wide entity for these preliminary results. See Preliminary Results of Review section below. For additional information, see the Preliminary Decision Memorandum.

¹⁵ Can Tho Import Export Seafood Joint Stock Company (CASEAMEX).

Vietnam-Wide Entity

Commerce's policy regarding conditional review of the Vietnam-wide entity applies to this administrative review.¹⁶ Under this policy, the Vietnam-wide entity will not be under review unless a party specifically requests, or Commerce self-initiates, a review of the entity. Because no party requested a review of the Vietnam-wide entity in this review, the entity is not under review and the weighted-average dumping margin determined for the Vietnam-wide entity is not subject to change (i.e., $2.39 per kilogram) as a result of this review.¹⁷ Other than the companies discussed above, Commerce considers all other companies for which a review was requested to be part of the Vietnam-wide entity. For additional information, see the Preliminary Decision Memorandum.

¹⁶ See Antidumping Proceedings: Announcement of Change in Department Practice for Respondent Selection in Antidumping Duty Proceedings and Conditional Review of the Nonmarket Economy Entity in NME Antidumping Duty Proceedings, 78 FR 65963 (November 4, 2013).

¹⁷ Id.

Methodology

Commerce is conducting this review in accordance with sections 751(a)(1)(B) and 751(a)(2)(A) of the Act. Constructed export prices have been calculated in accordance with section 772 of the Act. Because Vietnam is an NME country within the meaning of section 771(18) of the Act, normal value (NV) has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, room B8024 of the main Commerce building. In addition, a complete version of the Preliminary Decision Memorandum can be accessed directly on the internet at http://enforcement.trade.gov/frn/. The signed Preliminary Decision Memorandum and the electronic versions of the Preliminary Decision Memorandum are identical in content.

Preliminary Results of Review

Commerce preliminarily determines that the following weighted-average dumping margins exist for the period August 1, 2017 through July 31, 2018:

Exporter/producer | Weighted-average dumping margin & cash deposit rate (dollars per kilogram)
NTSF | $0.00
CASEAMEX | 0.00
Vietnam-wide Entity | 2.39

Disclosure

Commerce intends to disclose to interested parties the calculations performed in connection with these preliminary results within five days of its public announcement or, if there is no public announcement, within five days of the date of publication of this notice in accordance with 19 CFR 351.224(b).

Public Comment

Case briefs or other written comments may be submitted to the Assistant Secretary for Enforcement and Compliance no later than 30 days after the date of publication of these preliminary results, unless the Secretary alters the time limit. Rebuttal briefs, limited to issues raised in case briefs, may be submitted no later than five days after the deadline date for case briefs.¹⁸ Pursuant to 19 CFR 351.309(c)(2) and (d)(2), parties who submit case briefs or rebuttal briefs in this administrative review are encouraged to submit with each argument: (1) A statement of the issue; (2) a brief summary of the argument; and (3) a table of authorities.

¹⁸ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Commerce intends to issue the final results of this administrative review, which will include the results of our analysis of all issues raised in the case briefs, within 120 days of publication of these preliminary results in the Federal Register, pursuant to section 751(a)(3)(A) of the Act, unless extended.

Assessment Rates

Commerce intends to issue appropriate assessment instruction to CBP 15 days after publication of this notice. Upon issuance of the final results, Commerce will determine, and CBP shall assess, antidumping duties on all appropriate entries covered by this review.¹⁹ Commerce intends to issue assessment instructions to CBP 15 days after the publication date of the final results of this review. For any individually examined respondent whose weighted average dumping margin is not zero or de minimis (i.e., less than 0.50 percent) in the final results of this review, Commerce will calculate importer-specific assessment rates on the basis of the ratio of the total amount of dumping calculated for the importer's examined sales to the total entered value of those sales, in accordance with 19 CFR 351.212(b)(1). Where an importer-specific ad valorem rate is not zero or de minimis, Commerce will instruct CBP to collect the appropriate duties at the time of liquidation.²⁰ Where either a respondent's weighted-average dumping margin is zero or de minimis, or an importer-specific ad valorem assessment rate is zero or de minimis, Commerce will instruct CBP to liquidate appropriate entries without regard to antidumping duties.²¹

¹⁹ See 19 CFR 351.212(b).

²⁰ See 19 CFR 351.212(b)(1).

²¹ See 19 CFR 351.106(c)(2).

Cash Deposit Requirements

The following cash deposit requirements will be effective upon publication of the final results of this review for shipments of the subject merchandise from Vietnam entered, or withdrawn from warehouse, for consumption on or after the publication date, as provided by sections 751(a)(2)(C) of the Act: (1) For the companies listed above that have a separate rate, the cash deposit rate will be equal to the weighted-average dumping margin established in the final results of this review (except, if the rate is de minimis, then cash deposit rate will be zero); (2) for previously examined Vietnamese and non-Vietnamese exporters not listed above that at the time of entry are eligible for a separate rate based on a prior completed segment of this proceeding, the cash deposit rate will continue to be the existing exporter-specific cash deposit rate; (3) for all Vietnam exporters of subject merchandise that have not been found to be entitled to a separate rate at the time of entry, the cash deposit rate will be that for the Vietnam-wide entity (i.e., $2.39 per kilogram); and (4) for all non-Vietnamese exporters of subject merchandise which at the time of entry are not eligible for a separate rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

This preliminary determination is issued and published in accordance with sections 751(a)(1) and 777(i)(1) of the Act.

Dated: October 10, 2019.
Jeffrey I. Kessler,
Assistant Secretary for Enforcement and Compliance.

Appendix I

List of Topics Discussed in the Preliminary Decision Memorandum

I. Summary

II. Case History

III. Scope of the Order

IV. Selection of the Respondents

V. Preliminary Determination of No Shipments

VI. Non-Market Economy Country Status

VII. Separate Rates

VIII. Vietnam-Wide Entity

IX. Surrogate Country

X. Date of Sale

XI. Normal Value Comparisons

XII. Comparisons to Normal Value

XIII. Results of the Differential Pricing Analysis

XIV. Currency Conversion

XV. Recommendation

Appendix II

Companies For Which We Initiated a Review

1. An Giang Agriculture and Food Import-Export Joint Stock Company (also known as Afiex, An Giang Agriculture and Foods Import-Export Joint Stock Company, An Giang Agriculture and Food Import-Export Company, An Giang Agriculture and Foods Import and Export Company, or An Giang Agriculture and Foods Import-Export Company)

2. An Giang Fisheries Import and Export Joint Stock Company (also known as Agifish, AnGiang Fisheries Import and Export, or An Giang Fisheries Import & Export Joint Stock Company)

3. An My Fish Joint Stock Company (also known as Anmyfish or Anmyfishco)

4. An Phat Import-Export Seafood Co., Ltd. (also known as An Phat Seafood Co. Ltd. or An Phat Seafood Co., Ltd.)

5. An Phu Seafood Corporation (also known as ASEAFOOD or An Phu Seafood Corp.)

6. Anvifish Joint Stock Company (also known as Anvifish, Anvifish JSC, or Anvifish Co., Ltd.)

7. Asia Commerce Fisheries Joint Stock Company (also known as Acomfish JSC or Acomfish)

8. Asia Pangasius Company Limited (also known as ASIA)

9. Basa Joint Stock Company (BASACO)

10. Ben Tre Aquaproduct Import and Export Joint Stock Company (also known as Bentre Aquaproduct, Bentre Aquaproduct Import & Export Joint Stock Company, or Aquatex Bentre)

11. Bentre Forestry and Aquaproduct Import Export Joint Stock Company (also known as Bentre Forestry and Aquaproduct Import and Export Joint Stock Company, Ben Tre Forestry and Aquaproduct Import-Export Joint Stock Company, Ben Tre Forestry and Aquaproduct Import-Export Company, Ben Tre Forestry Aquaproduct Import-Export Company, Ben Tre Frozen Aquaproduct Export Company, or Faquimex)

12. Bien Dong Hau Giang Seafood Joint Stock Company (also known as Bien Dong HG or Bien Dong Hau Giang Seafood Joint Stock Co.)

13. Bien Dong Seafood Company Ltd. (also known as Bien Dong, Bien Dong Seafood, Bien Dong Seafood Co., Ltd., Biendong Seafood Co., Ltd., or Biendong Seafood Limited Liabilty Company)

14. Binh An Seafood Joint Stock Company (also known as Binh An or Binh An Seafood Joint Stock Co.)

15. Binh Dinh Import Export Company (also known as Binh Dinh)

16. Cadovimex II Seafood Import-Export and Processing Joint Stock Company (also known as Cadovimex II, Cadovimex II Seafood Import-Export, Cadovimex II Seafood Import Export and Processing Joint Stock Company, or Cadovimex II Seafood Import-Export & Processing Joint Stock Company)

17. Cafatex Corporation (also known as Cafatex)

18. Can Tho Animal Fishery Products Processing Export Enterprise (also known as Cafatex)

19. Cantho Import-Export Seafood Joint Stock Company (also known as CASEAMEX, Cantho Import Export Seafood Joint Stock Company, Cantho Import-Export Joint Stock Company, Can Tho Import Export Seafood Joint Stock Company, Can Tho Import- Export Seafood Joint Stock Company, or Can Tho Import-Export Joint Stock Company)

20. C.P. Vietnam Corporation

21. Cuu Long Fish Import-Export Corporation (also known as CL Panga Fish)

22. Cuu Long Fish Joint Stock Company (also known as CL-Fish, CL-FISH CORP, or Cuu Long Fish Joint Stock Company)

23. Da Nang Seaproducts Import-Export Corporation (also known as Da Nang or Da Nang Seaproducts Import/Export Corp.)

24. Dai Thanh Seafoods Company Limited (also known as DATHACO, Dai Thanh Seafoods, or Dai Thanh Seafoods Co., Ltd.)

25. East Sea Seafoods LLC (also known as ESS LLC, ESS, ESS JVC, East Sea Seafoods Limited Liability Company, East Sea Seafoods Joint Venture Co., Ltd.)

26. Europe Joint Stock Company (also known as Europe JSC or EJS CO.)

27. Fatifish Company Limited (also known as FATIFISH or FATIFISHCO)

28. Go Dang An Hiep One Member Limited Company

29. Go Dang Ben Tre One Member Limited Liability Company

30. GODACO Seafood Joint Stock Company (also known as GODACO, GODACO Seafood J.S.C., GODACO Seafood, or GODOCO_SEAFOOD)

31. Golden Quality Seafood Corporation (also known Golden Quality, GoldenQuality, GoldenQuality Seafood Corporation, or GOLDENQUALITY)

32. Green Farms Seafood Joint Stock Company (also known as Green Farms, GreenFarm SeaFoods Joint Stock Company, Green Farms Seafoods Joint Stock Company, or Green Farms Seafood JSC)

33. Hai Huong Seafood Joint Stock Company (also known as HHFish, HH Fish, or Hai Houng Seafood)

34. Hiep Thanh Seafood Joint Stock Company (also known as Hiep Thanh or Hiep Thanh Seafood Joint Stock Co.)

35. Hoa Phat Seafood Import-Export and Processing J.S.C. (also known as HOPAFISH, Hoa Phat Seafood Import-Export and Processing Joint Stock Company, or Hoa Phat Seafood Import-Export and Processing JSC)

36. Hoang Long Seafood Processing Company Limited (also known as HLS, Hoang Long Seafood, Hoang Long Seafood Processing Co.,Ltd., Hoang Long, or HoangLong Seafood)

37. Hung Vuong Ben Tre Seafood Processing Company Limited (also known as Ben Tre, HVBT, or HVBT Seafood Processing)

38. Hung Vuong—Mien Tay Aquaculture Corporation (also known as HVMT or Hung Vuong Mien Tay Aquaculture Joint Stock Company)

39. Hung Vuong—Sa Dec Co., Ltd. (also known as Hung Vuong Sa Dec Company Limited)

40. Hung Vuong—Vinh Long Co., Ltd. (also known as Hung Vuong Vinh Long Company Limited)

41. Hung Vuong Corporation (as known as HVC or HV Corp.)

42. Hung Vuong Joint Stock Company

43. Hung Vuong Mascato Company Limited

44. Hung Vuong Seafood Joint Stock Company

45. International Development & Investment Corporation (also known as IDI or International Development and Investment Corporation)

46. Lian Heng Investment Co., Ltd. (also known as Lian Heng Investment or Lian Heng)

47. Lian Heng Trading Co., Ltd. (also known as Lian Heng or Lian Heng Trading)

48. Nam Phuong Seafood Co., Ltd. (also known as Nam Phuong, NAFISHCO, Nam Phuong Seafood, or Nam PhuongSeafood Company Ltd.)

49. Nam Viet Corporation (also known as NAVICO)

50. Ngoc Ha Co. Ltd. Food Processing and Trading (also known as Ngoc Ha or Ngoc Ha Co., Ltd. Foods Processing and Trading)

51. Nha Trang Seafoods, Inc. (also known as Nha Trang Seafoods-F89, Nha Trang Seafoods, or Nha Trang Seaproduct Company)

52. NTACO Corporation (also known as NTACO or NTACO Corp.)

53. NTSF Seafoods Joint Stock Company (also known as NTSF or NTSF Seafoods)

54. Quang Minh Seafood Company Limited (also known as Quang Minh, Quang Minh Seafood Co., Ltd., or Quang Minh Seafood Co.)

55. QVD Dong Thap Food Co., Ltd. (also known as Dong Thap or QVD DT)

56. QVD Food Company, Ltd. (also known as QVD, QVD Food Co., Ltd., or QVD Aquaculture)

57. Saigon-Mekong Fishery Co., Ltd. (also known as SAMEFICO or Saigon Mekong Fishery Co., Ltd.)

58. Seafood Joint Stock Company No. 4 Branch Dongtam Fisheries Processing Company (also known as DOTASEAFOODCO or Seafood Joint Stock Company No. 4-Branch Dong Tam Fisheries Processing Company)

59. Seavina Joint Stock Company (also known as Seavina)

60. Southern Fishery Industries Company, Ltd. (also known as South Vina, South Vina Co., Ltd., Southern Fisheries Industries Company, Ltd., Southern Fishery Industries Co., Ltd., or Southern Fisheries Industries Company Limited)

61. Sunrise Corporation

62. TG Fishery Holdings Corporation (also known as TG)

63. Thanh Binh Dong Thap One Member Company Limited (also known as Thanh Binh Dong Thap or Thanh Binh Dong Thap Ltd.)

64. Thanh Hung Co., Ltd. (also known as Thanh Hung Frozen Seafood Processing Import Export Co., Ltd. or Thanh Hung)

65. Thien Ma Seafood Co., Ltd. (also known as THIMACO, Thien Ma, Thien Ma Seafood Company, Ltd., or Thien Ma Seafoods Co., Ltd.)

66. Thuan An Production Trading and Service Co., Ltd. (also known as TAFISHCO, Thuan An Production Trading and Services Co., Ltd., Thuan An Production & Trading Service Co., Ltd., or Thuan An Production & Trading Services Co., Ltd.)

67. Thuan Hung Co., Ltd. (also known as THUFICO)

68. To Chau Joint Stock Company (also known as TOCHAU, TOCHAU JSC, or TOCHAU Joint Stock Company)

69. Van Duc Food Export Joint Stock Company (also known as Van Duc)

70. Van Duc Tien Giang Food Export Company (also known as VDTG)

71. Viet Hai Seafood Company Limited (also known as Viet Hai, Vietnam Fish-One Co., Ltd. Viet Hai Seafood Co., Viet Hai Seafood Co., Ltd., Vietnam Fish One Co., Ltd., or Fish One)

72. Viet Phu Foods and Fish Corporation (also known as Vietphu, Viet Phu, Viet Phu Food and Fish Corporation, or Viet Phu Food & Fish Corporation)

73. Viet Phu Foods & Fish Co., Ltd.

74. Vinh Hoan Corporation (also known as Vinh Hoan, Vinh Hoan Co., or Vinh Hoan Corp.)

75. Vinh Long Import-Export Company (also known as Vinh Long, Imex Cuu Long or Vinh Long Import/Export Company)

76. Vinh Quang Fisheries Corporation (also known as Vinh Quang, Vinh Quang Fisheries Joint Stock Company, Vinh Quang Fisheries Co. Ltd., or Vinh Quang Fisheries Corp.

[FR Doc. 2019-22990 Filed 10-21-19; 8:45 am]

BILLING CODE 3510-DS-P